DEPARTMENT OF HEALTH AND HUMAN SERVICES

Centers for Disease Control and Prevention

[60Day 10-0696]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

National HIV Prevention Program Monitoring and Evaluation (NHM&E))—Revision—National Center for HIV/AIDS, Viral Hepatitis, STD, and TB Prevention (NCHHSTP), Centers for Disease Control and Prevention (CDC).

Background and Brief Description

CDC is requesting approval for a revision of a previously approved project and a change in project name. The initial PEMS OMB request was approved October 6, 2005, for one year and reinstated August 22, 2007, for three years.

The purpose of this revision is to collect standardized HIV prevention program evaluation data from health departments and community-based organizations (CBOs) who receive Federal funds for HIV prevention activities. Grantees have the option of using CDC's web-based PEMS software application or other approved software that the grantee may elect to utilize. Since the data collection approval in 2007, program evaluation data collection has proceeded in phases. The last phase, the collection and reporting of Partner Services data, is scheduled to begin in July 2010.

The evaluation and reporting process is necessary to ensure that CDC receives standardized, accurate, thorough evaluation data from both health department and CBO grantees. For these reasons, CDC developed standardized NHM&E variables and an optional electronic reporting system (PEMS) through extensive consultation with representatives from health departments, CBOs, and national partners (e.g., The National Alliance of State and Territorial AIDS Directors, Urban Coalition of HIV/AIDS Prevention Services, and National Minority AIDS Council).

CDC requires CBOs and health departments who receive federal funds for HIV prevention to report non-identifying, client-level, standardized evaluation data to: (1) Accurately determine the extent to which HIV prevention efforts are carried out, what types of agencies are providing services, what resources are allocated to those services, to whom services are being provided, and how these efforts have contributed to a reduction in HIV transmission; (2) improve ease of reporting to better meet these data needs; and (3) be accountable to stakeholders by informing them of HIV prevention activities and use of funds in HIV prevention nationwide.

CDC HIV prevention program grantees will collect, enter, and report general agency information, program model and budget data, and client demographics and behavioral risk characteristics. If using the PEMS, data collection will include searching existing data sources, gathering and maintaining data, document compilation, review of data, and data entry into the web-based system.

The following changes have occurred since project 0920-0696 has been implemented: (1) The term “PEMS” currently refers only to CDC's web-based data collection and transmission software. In order to refer to data variables, the revised project uses the term “National HIV prevention program monitoring and evaluation” (NHM&E) data rather than “PEMS” data; and, (2) many data variables that were previously required are currently made optional in order to reduce data reporting burden on grantees. The revised collection anticipates a significant increase in the number of grantees and activities to be funded and provides additional optional variables for use by CBOs in outcome evaluation and special evaluation projects.

There are no additional costs to respondents other than their time.

Estimated Annualized Burden Hours
Form name | Type of respondents | Number of respondents | Number of responses per respondent | Average burden per response (in hours) | Total burden (in hours)
NHM&E Data Variables and Values | Health jurisdictions | 65 | 4 | 148 | 38,480
HIV Testing Form | Health jurisdictions (HV Testing-scan) | 30 | 4 | 616 | 73,920
NHM&E Data Variables and Values | Health jurisdictions (HIV Testing non-scan) | 35 | 4 | 439 | 61,460
NHM&E Data Variables and Values | Health jurisdictions (Training) | 65 | 4 | 10 | 2,600
NHM&E Data Variables and Values | Community-Based Organizations | 300 | 4 | 84 | 100,800
HIV Testing Form | Community-Based Organizations (HIV Testing) | 100 | 4 | 30 | 12,000
NHM&E Data Variables and Values | Community-Based Organizations (Training) | 300 | 4 | 10 | 12,000
Total |  |  |  |  | 301,260

Dated: April 5, 2010.
Maryam I. Daneshvar,
Acting Reports Clearance Officer, Centers for Disease Control and Prevention.

[FR Doc. 2010-8261 Filed 4-9-10; 8:45 am]

BILLING CODE 4163-18-P